DEPARTMENT OF EDUCATION

Equity and Excellence Commission, Meeting Cancellation

AGENCY: U.S. Department of Education.

ACTION: Notice; Advisory Committee Meeting Cancellation.

SUMMARY: The Department of Education gives notice of the cancellation of the Meeting of the Equity and Excellence Commission scheduled for June 4, 2012 and announced in the Federal Register on May 18, 2012 in Vol. 77 No. 97.

The meeting will be rescheduled for a date to be announced in the future.

FOR FURTHER INFORMATION CONTACT: Guy Johnson, Designated Federal Official, Equity and Excellence Commission, U.S. Department of Education, 400 Maryland Avenue SW., Washington, DC 20202. Email: equitycommission@ed.gov. Telephone: (202) 453-6567.

John DiPaolo,
Chief of Staff, Assistant Secretary for Civil Rights, Office for Civil Rights.

[FR Doc. 2012-13499 Filed 6-4-12; 8:45 am]

BILLING CODE 4000-01-P